ENVIRONMENTAL PROTECTION AGENCY

[EPA-HQ-OPP-2008-0195; FRL-8380-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by March 11, 2009 or October 14, 2008 for registrations for which the registrant requested a waiver of the 180-day comment period, orders will be issued canceling these registrations. The Agency will consider withdrawal requests postmarked no later than March 11, 2009 or October 14, 2008, whichever is applicable. Comments must be received on or before March 11, 2009 or October 14, 2008, for those registrations where the 180-day comment period has been waived.

ADDRESSES: Submit your comments and your withdrawal request, identified by docket identification (ID) number EPA-HQ-OPP-2008-0195, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention : John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to docket ID number EPA-HQ-OPP-2008-0195. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resource Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 215 pesticide products registered under section 3 or 24(c) of FIFRA. These registrations are listed in sequence by registration number (or company number and 24(c) number) in Table 1 of this unit:

Table 1.—Registrations With Pending Requests for Cancellation
Registration no. | Product Name | Chemical Name
000004-00029 | Bonide Vegetable Floral Dust or Spray | Basic copper sulfate
|  | Carbaryl
|  | Rotenone
000004-00030 | Bonide Rotenone-Copper Dust | Basic copper sulfate
|  | Rotenone
000004-00053 | Bonide Cuke and Melon Dust | Basic copper sulfate
|  | Rotenone
000004-00107 | Bonide Garden Dust for Vegetables-Flowers | Basic copper sulfate
|  | Pyrethrins
|  | Rotenone
|  | Sulfur
000004-00153 | Systemic Granules contains Di-Syston | Disulfoton
000004-00159 | Bonide V-1 Vapona Fog, Mist or Spray Insecticide | Dichlorvos
000004-00237 | Bonide Sevin* 2 Flowable Insecticide | Carbaryl
000004-00253 | Bonide Systemic Granules 1% | Disulfoton
000004-00290 | Bonide Turf, Garden & Ornamental Fungicide 50% Wp | Chlorothalonil
000004-00335 | Bonide Weed Beater Crabgrass and Lawn Weed Killer | DSMA
|  | 2,4-D, dimethylamine salt
000004-00387 | Bonide Sevin Wettable Powder | Carbaryl
000004-00415 | Sevin 4F Agricultural Insecticide | Carbaryl
|  | Propylene glycol
000004-00420 | Bonide Systemic Rose & Flower Care | Disulfoton
000004-00436 | Bonide Complete Fruit Tree Spray | Copper salts of fatty and rosin acids
|  | Pyrethrins
|  | Rotenone
000004-00444 | Bonide Systemic Insecticide Granules | Acephate
000004-00445 | Bonide Systemic Insecticide Granules with Fertilizer | Acephate
000192-00191 | Dexol Bordeaux Fungicide | Basic copper sulfate
000228-00388 | Riverdale MMMCCCXXXVI F | Thiophanate-methyl
000228-00390 | Riverdale CTM Fungicide | Chlorothalonil
|  | Thiophanate-methyl
000239-00309 | Orthorix Spray | Calcium polysulfide
000239-02453 | Orthene Systemic Rose & Flower Care 8-8-8 | Acephate
000239-02472 | Orthene Granules | Acephate
000239-02528 | Ortho Dormant Insect & Disease Control | Aliphatic petroleum solvent
|  | Calcium polysulfide
000241-00294 | Contain Herbicide | 2-(4,5-Dihydro-4-methyl-4-(1-methylethyl)-5-oxo-1H-imidazol-2-yl)-3-pyridinecarboxylic acid
000241 OH-99-0003 | Acrobat MZ Fungicide | Mancozeb
|  | Dimethomorph
000241 SC-99-0002 | Acrobat MZ Fungicide | Mancozeb
|  | Dimethomorph
000264-00742 | Baytan Seed Treatment Fungicide | Triadimenol
000264-00760 | Baytan 2.6 FS Seed Treatment Fungicide | Triadimenol
000264-00980 | Protege Allegiance Baytan W.P. Fungicide | Metalaxyl
|  | Triadimenol
|  | Azoxystrobin
000264 OR-95-0034 | Gustafson RTU-Vitavax-Thiram Seed Protectant Fungicide | Thiram
|  | Carboxin
000264 WA-97-0032 | Gustafson 42-S Thiram Fungicide | Thiram
000264 WA-97-0036 | Gustafson 42-S Thiram Fungicide | Thiram
000270-00351 | Adams 14-Day Flea Dip | 2,5-Pyridinedicarboxylic acid, dipropyl ester
|  | MGK 264
|  | Piperonyl butoxide
|  | Pyrethrins
|  | Permethrin
000279-03044 | Ammo 2.5 Oil Insecticide | Cypermethrin
000279-03046 | Ammo 2.5 Miscible Insecticide | Cypermethrin
000279-03084 | Ammo WSB Insecticide | Cypermethrin
000279 WA-91-0006 | Furadan 4F | Carbofuran
000352-00683 | Basicop | Basic copper sulfate
000352-00695 | Griffin Ethepan MUP | Ethephon
000352-00707 | GX-270 | Copper hydroxide
|  | Copper sulfate pentahydrate
000352-00711 | Copper Hydroxide MUP | Copper hydroxide
000352-00719 | Dupont Lineage Herbicide | 2-(4,5-Dihydro-4-methyl-4-(1-methylethyl)-5-oxo-1H-imidazol-2-yl)-3-pyridinecarboxylic acid
000352-00720 | Dupont Lineage 4 Herbicide | 2-(4,5-Dihydro-4-methyl-4-(1-methylethyl)-5-oxo-1H-imidazol-2-yl)-3-pyridinecarboxylic acid
000352 AR-00-0002 | Kocide 2000 | Copper hydroxide
000352 LA-00-0002 | Kocide 2000 | Copper hydroxide
000352 MS-00-0007 | Kocide 2000 | Copper hydroxide
000400-00425 | Omite -CR (for California Only) | Propargite
000400-00426 | Omite-CR | Propargite
000400 FL-82-0094 | Vitavax-200 Flowable Fungicide (vitavax with Thiram) | Thiram
|  | Carboxin
000400 MT-85-0002 | Vitavax-200 Flowable Fungicide (vitavax with Thiram) | Thiram
|  | Carboxin
000464-00699 | Ucarcide 114 Antimicrobial | Glutaraldehyde
|  | Alkyl* dimethyl benzyl ammonium chloride *(50%C14, 40%C12, 10%C16)
000464-00701 | Ucarcide 142 Antimicrobial | Glutaraldehyde
|  | Alkyl* dimethyl benzyl ammonium chloride *(50%C14, 40%C12, 10%C16)
000707 CT-02-0001 | Dithane DF Agricultural Fungicide | Mancozeb
000707 KY-02-0001 | Dithane DF Agricultural Fungicide | Mancozeb
000769-00681 | SMCP St. Augustine Grass Broadleaf Herbicide | Benzoic acid, 3,6-dichloro-2-methoxy-, compd with N-methylmethanamine (1:1)
|  | 2,4-D, dimethylamine salt
|  | Mecoprop, dimethylamine salt
000769-00851 | Pratt Dandelion Destroyer | Benzoic acid, 3,6-dichloro-2-methoxy-, compd with N-methylmethanamine (1:1)
|  | 2,4-D, dimethylamine salt
000769-00859 | Pratt Chickweed & Clover Killer | Benzoic acid, 3,6-dichloro-2-methoxy-, compd with N-methylmethanamine (1:1)
|  | 2,4-D, dimethylamine salt
|  | Mecoprop, dimethylamine salt
000769-00902 | Science Lawn Weed-Killer | Benzoic acid, 3,6-dichloro-2-methoxy-, compd with N-methylmethanamine (1:1)
|  | 2,4-D, dimethylamine salt
000769-00950 | Pratt Turf Herbicide 6000 | Benzoic acid, 3,6-dichloro-2-methoxy-, compd with N-methylmethanamine (1:1)
|  | 2,4-D, dimethylamine salt
|  | Mecoprop, dimethylamine salt
000829-00006 | SA 50 Brand Tomato Dust | Basic copper sulfate
000829-00258 | SA-50 Brand Neutral Copper Fungicide | Basic copper sulfate
001001-00065 | Protect T/O WSB Turf and Ornamental Fungicide In Water | Mancozeb
001278-00005 | Triangle Brand Copper Sulfate Instant Powder | Copper sulfate pentahydrate
001278-00008 | Triangle Brand Copper Sulfate Crystal | Copper sulfate pentahydrate
001386-00625 | Dimethoate 400 | Dimethoate
001812-00293 | Technical Copper Sulfate Pentahydrate Crystals | Copper sulfate pentahydrate
001812-00313 | Blue Viking Copper Sulfate Instant | Copper sulfate pentahydrate
001812-00372 | Tennessee Brand Tri-Basic Copper Sulfate | Basic copper sulfate
001812-00379 | Copper Sulfate Instant | Copper sulfate pentahydrate
002217-00613 | Gordon's Bordeaux Mixture | Copper sulfate pentahydrate
002724-00655 | Security Ornamental and Fruit Spray Oil | Aliphatic petroleum solvent
002935-00459 | Wilbur-Ellis Baytan Flowable | Triadimenol
003008-00083 | NW 100 | Copper ethanolamine complex
|  | Alkyl* dimethyl benzyl ammonium chloride *(67%C12, 25%C14, 7%C16, 1%C18)
003377-00007 | M-B-R 98 Fumigant | Methyl bromide
003377-00016 | M-B-R 2 Penetrating Fumigating | Methyl bromide
003377-00017 | Dowfume MC-33 Fumigant | Methyl bromide
|  | Chloropicrin
003377-00030 | M-B-R 75 | Methyl bromide
|  | Chloropicrin
003432-00068 | Winter Powder Algaecide | Copper sulfate pentahydrate
004822-00379 | Raid Flea Killer Formula II | Piperonyl butoxide
|  | Phenothrin
005383-00123 | Troy 2063 | 1,2-Benzisothiazolin-3-one
|  | 2,4-Imidazolidinedione, 1,3-bis(hydroxymethyl)-5,5-dimethyl-
|  | 2,4-Imidazolidinedione, 1-(hydroxymethyl)-5,5-dimethyl-
005481-00135 | Alco Copper Bordeau 125 | Basic copper sulfate
005481-00140 | Alco Cutrine Algaecide Rtu | Copper triethanolamine complex
005481-00322 | Royal Brand Tomato Dust | Basic copper sulfate
005481-00510 | Leffingwell Supreme 415 Oil | Aliphatic petroleum solvent
005887-00143 | Black Leaf Lime Sulfur Spray | Calcium polysulfide
005905-00496 | Setre 1.5 Lb. Benfluralin E.c. | Benfluralin
005905-00510 | MCPA Sodium Salt | MCPA, sodium salt
007364-00010 | Algimycin Pll | Copper as metallic (in the form of chelates of copper citrate and copper gluconate)
007364-00026 | Slow Release | Copper sulfate pentahydrate
007364-00083 | Pool-Pal 300 Algaecide | Copper triethanolamine complex
007364-00084 | Pool-Pal 30 Algaecide | Copper triethanolamine complex
007401-00126 | Ferti Lome Scale Insect Spray | Aliphatic petroleum solvent
007401-00304 | Hi-Yield Systemic Vegetation Killer | Glyphosate-isopropylammonium
007401-00306 | Hi-Yield Systemic Weed and Grass Killer | Glyphosate-isopropylammonium
007401-00307 | Hi-Yield Ready To Use Systemic Weed and Grass Killer | Glyphosate-isopropylammonium
007401-00357 | Ferti-Lome Systemic Vine Killer | Glyphosate-isopropylammonium
007401-00373 | Hi-Yield Bordeaux Mix Fungicide | Basic copper sulfate
007401-00400 | Ferti-Lome Ready-To-Use Vine Killer | Glyphosate-isopropylammonium
007401-00401 | Hi-Yield Ready-To-Use Weed and Grass Killer | Glyphosate-isopropylammonium
007401-00402 | Ferti-Lome Ready-To-Use Systemic Nutgrass Killer | Glyphosate-isopropylammonium
007401-00403 | Hi-Yield Ready-To-Use Vegetation Killer | Glyphosate-isopropylammonium
007401-00404 | Hi-Yield Systemic Weed and Grass Killer Conc. | Glyphosate-isopropylammonium
007401-00405 | Hi-Yield Systemic Rope & Wick Applicator Mix | Glyphosate-isopropylammonium
007754-00040 | Bug Barrier | 2,5-Pyridinedicarboxylic acid, dipropyl ester
|  | MGK 264
|  | Diethyl toluamide
007969-00030 | Rebelate Dimethoate Systemic Insecticide | Dimethoate
007969-00038 | Rebelate 2e Insecticide | Dimethoate
008622-00070 | Halobrom Bcdmh 96% | 2,4-Imidazolidinedione, 1-bromo-3-chloro-5,5-dimethyl-
008660-00082 | Green Up Caterpillar Spray | Bacillus thuringiensis subsp. kurstaki
008660-00199 | Koos Bayleton 0.78% Granule Fungicide | Triadimefon
008959-00020 | Cutrine-Plus II Algaecide | Copper triethanolamine complex
008959-00031 | Trine B.A.C. | Copper triethanolamine complex
|  | Alkyl* dimethyl benzyl ammonium chloride *(50%C14, 40%C12, 10%C16)
009198-00206 | Scotts TGR POA Annual Control | Ethofumesate
009444-00032 | Purge Total Release Insecticide with Vapona | Dichlorvos
009688-00179 | Chemsico Dormant Oil Spray | Aliphatic petroleum solvent
009779-00142 | Riverside Sodium Chlorate | Sodium chlorate
009779-00305 | Sodium Chlorate 6 | Sodium chlorate
009779-00324 | Tropic Supreme Oil | Aliphatic petroleum solvent
009779-00332 | Asgrow Citrus Oil | Aliphatic petroleum solvent
009779-00336 | Riverside Dormant Oil 415 | Aliphatic petroleum solvent
009779-00352 | Thiodicarb 3.2 | Thiodicarb
010163-00055 | Prokil Dimethoate W-25 Insecticide | Dimethoate
010163-00107 | Gowan Procop R | Copper hydroxide
010163-00122 | D-Leaf M Cotton Defoliant | Sodium chlorate
010163-00159 | Cupric Hydroxide Technical | Copper hydroxide
010163-00160 | Gowan Dimethoate 4 | Dimethoate
010163-00211 | Gowan Dimethoate Technical | Dimethoate
010806-00017 | Contact Animal Guard | 2,5-Pyridinedicarboxylic acid, dipropyl ester
|  | MGK 264
|  | Piperonyl butoxide
|  | Pyrethrins
017545-00007 | Zinc-Copper Spray 25%-25% | Basic copper sulfate
019713-00489 | Drexel 8020 I | Aliphatic petroleum solvent
019713 ID-97-0008 | Drexel Dimethoate 4EC | Dimethoate
019713 OR-96-0023 | Drexel Dimethoate 2.67 | Dimethoate
019713 TN-96-0003 | Drexel Dimethoate 4EC | Dimethoate
019713 UT-94-0001 | Drexel Dimethoate 4EC | Dimethoate
032802-00041 | Pro-Tek Turf Fungicide | Triadimefon
032802-00042 | Pro-Tek Lawn Fungicide | Triadimefon
033955-00097 | Acme Bordeaux Mixture | Basic copper sulfate
033955-00420 | Acme Lime-Sulfur Spray | Calcium polysulfide
034704-00695 | Clean Crop Sodium Chlorate | Sodium chlorate
034911-00025 | Hi-Yield Systemic Rope & Wick Applicator Mix | Glyphosate-isopropylammonium
035253-00004 | Agra-Cop 50WP | Copper oxychloride (Cu2Cl(OH)3)
035276-00002 | Diamond Brand 455 Soluble Oil | Aliphatic petroleum solvent
043591-00002 | Flea & Tick Mist | 2,5-Pyridinedicarboxylic acid, dipropyl ester
|  | MGK 264
|  | Piperonyl butoxide
|  | Pyrethrins
045309-00028 | Swim Free Algaecide for Swimming Pools | Copper triethanolamine complex
045309-00036 | Nice 'n Clear Swimming Pool Algaecide | Copper triethanolamine complex
045309-00041 | Swim Free Non-Foaming Winterizer | Copper triethanolamine complex
045309-00042 | Free-N Clear 45 Swimming Pool Algaecide | Copper triethanolamine complex
047000-00110 | Cygon 2-E Systemic Insecticide | Dimethoate
047000-00141 | Flygon 2-E | Dimethoate
049403-00028 | Nipacide CBX | 1,2-Benzisothiazolin-3-one
|  | 5-Chloro-2-methyl-3(2H)-isothiazolone
|  | 2-Methyl-3(2H)-isothiazolone
049585-00021 | Super K-Gro Vegetable Garden Dust | Bacillus thuringiensis subsp. kurstaki
051036-00015 | Microsperse Copper 53 | Basic copper sulfate
051036-00082 | Micro-Flo Copper 3 FL | Copper oxychloride (Cu2Cl(OH)3)
051036-00208 | Micro Flo Copper/Sulfur Flowable | Basic copper sulfate
|  | Sulfur
051036-00268 | Nu-Cop 3l | Copper hydroxide
051036-00269 | Nu-Cop 50DF | Copper hydroxide
051036-00272 | Micro Flo Cop-O-Zinc | Basic copper sulfate
051036-00273 | Coc 50 WDG | Copper oxychloride (Cu2Cl(OH)3)
051036-00276 | Copper Hydroxide 90% | Copper hydroxide
053883-00113 | Super-Fine Spray Oil | Mineral oil - includes paraffin oil from 063503
055146-00009 | Copper Power Brand | Basic copper sulfate
055146-00014 | Copzin | Basic copper sulfate
055146-00015 | Acp Copper Oxychloride Technical | Copper oxychloride (Cu2Cl(OH)3)
055146-00016 | Champion 20/20 | Copper hydroxide
055146-00022 | Copro 53 | Copper oxychloride sulfate
055146-00023 | Copro 50 | Copper oxychloride sulfate
055146-00040 | COC 50WP | Copper oxychloride (Cu2Cl(OH)3)
055146-00041 | Champ Flowable | Copper hydroxide
055146-00043 | Copper Oxychloride Technical | Copper oxychloride (Cu2Cl(OH)3)
055146-00050 | Champ 30 WDG | Copper hydroxide
055146-00060 | Copper Hydroxide Technical | Copper hydroxide
062719-00011 | Dursban 4E Insecticide | Chlorpyrifos
062719-00047 | Dursban TC | Chlorpyrifos
062719-00065 | Dursban 2E | Chlorpyrifos
062719-00069 | Dursban WT Insecticidal Wood Treatment Concentrate | Chlorpyrifos
062719-00077 | Lentrek* 6 WT | Chlorpyrifos
062719-00088 | Dursban ME20 | Chlorpyrifos
062719-00089 | Dursban ME04 Microencapsulated | Chlorpyrifos
062719-00090 | Dursban ME02 Microencapsulated | Chlorpyrifos
062719-00210 | Dursban 1G Insecticide | Chlorpyrifos
062719-00271 | Dursban 1F | Chlorpyrifos
062719-00276 | Dursban 2.5G | Chlorpyrifos
062719 AZ-07-0005 | Lorsban-4E | Chlorpyrifos
062719 TN-99-0004 | Dithane DF Agricultural Fungicide | Mancozeb
064004-00001 | Frostban A | Pseudomonas Syringae 742RS
064004-00003 | Frostban C | Pseudomonas Syringae 742RS
064004-00004 | Frostban D |
064962-00001 | Earthtec | Copper sulfate pentahydrate
066300 PR-92-0002 | Mocap 10% Granular Nematicide - Insecticide | Ethoprop
066330-00208 | Micro Flo DDVP Em-2 | Dichlorvos
066330-00214 | Thiram 75WP Fungicide | Thiram
066330-00215 | Vapona 2 EC | Dichlorvos
066330-00254 | Fluometuron Technical | Fluometuron
066330 MN-07-0005 | Chlorpyrifos 4# AG | Chlorpyrifos
066330 WA-02-0017 | Iprodione 4l AG | Iprodione
067517-00038 | 5% Dichlorvos (DDVP) Insecticide | Dichlorvos
067690-00008 | A & V - 70 Granular Algaecide | Copper triethanolamine complex
067690-00011 | A & V-70 Plus Algaecide | Copper triethanolamine complex
067760-00036 | Dimethoate 2.67 EC Organophosphate - Systemic Insectici | Dimethoate
070506-00128 | UPI Imazethapyr Technical Herbicide | Imazethapyr
070506-00135 | UPI Imazapyr Technical | Imazapyr
070506-00159 | Mazamax 2f Herbicide | Ammonium salt of ()-2-(4,5-dihydro-4-methyl-4-(1-methylethyl)-5-oxo-1H-imidazol-2-yl)-5-e
070506-00177 | Maneb 80 WPp Fungicide | Maneb
070506-00181 | Maneb Technical | Maneb
070506-00184 | Maneb 4fL Flowable Fungicide | Maneb
070506-00186 | Maneb 75DF Dry Flowable Fungicide | Maneb
071096-00015 | Bonide Snail, Slug & Sowbug Bait | Metaldehyde
|  | Carbaryl
071368-00017 | Rhonox Gel Emulsifiable Broadleaf Herbicide | MCPA, 2-ethylhexyl ester
071368 MA-79-0001 | Weedar 64 Broadleaf Herbicide | 2,4-D, dimethylamine salt
073782-00002 | Demosan 65w | Chloroneb
075506-00001 | Wolman 3488 Wood Preservative | Boric acid
|  | Copper carbonate
|  | Propiconazole
075506-00002 | Wolman 3490 | Boric acid
|  | Copper carbonate
|  | Tebuconazole
075506-00004 | Wolman E | Boric acid
|  | Copper carbonate
|  | Tebuconazole
079558-00003 | Caffaro Copper Oxychloride WP | Copper oxychloride (Cu2Cl(OH)3)
079676 AR-07-0010 | Chlorpyrifos E-Pro 4 Insecticide | Chlorpyrifos
081142-00005 | Dicam | Benzoic acid, 3,6-dichloro-2-methoxy-, compd with N-methylmethanamine (1:1)

A request to waive the 180-day comment period has been received for the following registrations: 000004-00153; 000004-00253; 000004-00420; 000228-00390; 000279-03044; 000279-03046; 000279-03084; 002935-00459; 008660-00082; 009444-00032; 009688-00179; 032802-00041; 032802-00042; 049585-00021; 070506-00177; 070506-00181; 070506-00184; 070506-00186.

Unless a request is withdrawn by the registrant within 30 days of publication of this notice for registrations in which the 180 day comment period has been waived, or 180 days of publication for all other registrations, orders will be issued canceling all of these registrations. Users of these pesticides or anyone else desiring the retention of a registration should contact the applicable registrant directly during the 180-day or the 30-day comment period, whichever is applicable.

Table 2 of this unit includes the names and addresses of record for all registrants of the products in Table 1 of this unit, in sequence by EPA company number:

Table 2.—Registrants Requesting Voluntary Cancellation
EPA Company no. | Company Name and Address
000004 | Bonide Products, Inc., 6301 Sutliff Rd., Oriskany, NY 13424.
000192 | Value Gardens Supply, LLC, d/b/a Value Garden Supply, Po Box 585, Saint Joseph, MO 64502.
000228 | Nufarm Americas Inc., 150 Harvester Drive, Suite 200, Burr Ridge, IL 60527.
000239 | The Scotts Co., d/b/a The Ortho Group, Po Box 190, Marysville, OH 43040.
000241 | BASF Corp., PO Box 13528, Research Triangle Park, NC 277093528.
000264 | Bayer Cropscience LP, 2 T.W. Alexander Drive, Research Triangle Park, NC 27709.
000270 | Farnam Companies, Inc., d/b/a Central Life Sciences, 301 W. Osborn Rd., Phoenix, AZ 85013.
000279 | FMC Corp. Agricultural Products Group, 1735 Market St., Philadelphia, PA 19103.
000352 | E. I. Du Pont De Nemours and Co., Inc., Dupont Crop Protection (s300/427), PO Box 30, Newark, DE 197140030.
000400 | Chemtura Corp., Attn: Crop Registration, 199 Benson Rd. (2-5), Middlebury, CT 06749.
000464 | The Dow Chemical Co., Agent For: Dow Chemical Co., The, 1500 E. Lake Cook Rd., Buffalo Grove, IL 60089.
000707 | Rohm & Haas Co, Attn: James V. Hagan, 100 Independence Mall W., Philadelphia, PA 191062399.
000769 | Value Gardens Supply, LLC, d/b/a Value Garden Supply, PO Box 585, Saint Joseph, MO 64502.
000829 | Southern Agricultural Insecticides, Inc., PO Box 218, Palmetto, FL 34220.
001001 | Cleary Chemicals, LLC, 178 Ridge Rd., Suite A, Dayton, NJ 088100010.
001278 | Phelps Dodge Refining Corp., PO Box 20001, El Paso, TX 79998.
001386 | Universal Cooperatives Inc., 1300 Corporate Center Curve, Eagan, MN 55121.
001812 | Dupont Crop Protection/stine-Haskell Research Center, Agent For: Griffin L.L.C., PO Box 30, Newark, DE 197140030.
002217 | PBI/Gordon Corp., PO Box 014090, Kansas City, MO 641010090.
002724 | Wellmark International, 1501 E. Woodfield Rd., Suite 200 W., Schaumburg, IL 60173.
002935 | Wilbur Ellis Co., PO Box 1286, Fresno, CA 93715.
003008 | Osmose Inc., 980 Ellicott St, Buffalo, NY 14209.
003377 | Albemarle Corp., 451 Florida Street, Baton Rouge, LA 708011765.
003432 | N. Jonas&Co., Inc., PO Box 425, Bensalem, PA 19020.
004822 | S.C. Johnson & Son Inc., 1525 Howe Street, Racine, WI 53403.
005383 | Troy Chemical Corp., PO Box 955, Florham Park, NJ 079324200.
005481 | Amvac Chemical Corp., d/b/a Amvac, 4695 Macarthur Ct., Suite 1250, Newport Beach, CA 926601706.
005887 | Value Gardens Supply, LLC, d/b/a Value Garden Supply, PO Box 585, Saint Joseph, MO 64502.
005905 | Helena Chemical Co, 225 Schilling Blvd., Suite 300, Collierville, TN 38017.
007364 | Glb Pool & Spa, W175 N11163 Stonewood Drive, Suite 234, Germantown, WI 530224799.
007401 | Voluntary Purchasing Groups, Inc., PO Box 460, 230 Fm 87, Bonham, TX 75418.
007754 | Adams Technology Systems, Agent For: ARI, 5145 Forest Run Trace - Suite B, Alpharetta, GA 300224504.
007969 | BASF Corp., Agricultural Products, PO Box 13528, Research Triangle Park, NC 277093528.
008622 | ICI-Ip America, Inc., 95 Maccorkle Ave. Southwest, South Charleston, WV 253031411.
008660 | United Industries Corp., d/b/a Sylorr Plant Corp., Po Box 142642, St. Louis, MO 631140642.
008959 | Applied Biochemists, W175 N11163 Stonewood Drive, Suite 234, Germantown, WI 530224799.
009198 | The Andersons Lawn Fertilizer Division, Inc., dba/ Free Flow Fertilizer, PO Box 119, Maumee, OH 43537.
009444 | Waterbury Companies Inc., PO Box 640, Independence, LA 70443.
009688 | Chemsico, Div of United Industries Corp., PO Box 142642, St Louis, MO 631140642.
009779 | Winfield Solutions, LLC, PO Box 64589, St Paul, MN 551640589.
010163 | Gowan Co, PO Box 5569, Yuma, AZ 853665569.
010806 | Contact Industries, Div of Safeguard Chemical Corp., 411 Wales Ave, Bronx, NY 10454.
017545 | Monterey Agresources, PO Box 35000, Fresno, CA 937455000.
019713 | Drexel Chemical Co., PO Box 13327, Memphis, TN 381130327.
032802 | Howard Johnson's Enterprises Inc., 700 W. Virginia St Ste 222, Milwaukee, WI 532041548.
033955 | PBI/Gordon Corp., Attn: James L. Kunstman, Po Box 014090, Kansas City, MO 641010090.
034704 | Loveland Products, Inc., PO Box 1286, Greeley, CO 806321286.
034911 | Hi-Yield Chemical Co., PO Box 460, 230 FM 87, Bonham, TX 75418.
035253 | Alice Walker Consulting, Agent For: Brandt Consolidated, Inc., 3094 Country Club Rd., Senatobia, MS 38668.
035276 | Diamond R Fertilizer Co., Inc., 4100 Glades Rd, Fort Pierce, FL 34981.
043591 | Veterinary Products Laboratories, PO Box 34820, Phoenix, AZ 85067.
045309 | Aqua Clear Industries, LLC., PO Box 2456, Suwanee, GA 300240980.
047000 | Chem-Tech, Ltd., 4515 Fleur Dr. #303, Des Moines, IA 50321.
049403 | Lewis&Harrison, Agent For: Clariant Corp., 122 C St Nw Ste 740, Washington, DC 20001.
049585 | Alljack, Division of United Industries Corp., PO Box 142642, St Louis, MO 631140642.
051036 | BASF Sparks LLC, PO Box 13528, Research Triangle Park, NC 27709.
053883 | Control Solutions, Inc., 5903 Genoa-Red Bluff, Pasadena, TX 775071041.
055146 | Nufarm Americas Inc., AGT Division, 150 Harvester Drive Suite 200, Burr Ridge, IL 60527.
062719 | Dow Agrosciences LLC, 9330 Zionsville Rd 308/2e, Indianapolis, IN 462681054.
064004 | Frost Technologies, 150 Harvester Drive Suite 200, Burr Ridge, IL 60527.
064962 | Earth Science Laboratories, Inc., 113 SE 22nd Street, Suite 1, Bentonville, AR 72712.
066300 | Aventis Cropscience Usa LP, Agent For: Aventis Cropscience Puerto Rico, PO Box 12014, Research Triangle Park, NC 27709.
066330 | Arysta Lifescience North America, LLC, 15401 Weston Parkway, Suite 150, Cary, NC 27513.
067517 | PM Resources Inc., 13001 St. Charles Rock Rd, Bridgeton, MO 63044.
067690 | Sepro Corp., 11550 N. Meridian St Suite 600, Carmel, IN 46032.
067760 | Cheminova Inc., 1700 Route 23 - Ste 300, Wayne, NJ 07470.
070506 | United Phosphorus, Inc., 630 Freedom Business Center, Suite 402, King Of Prussia, PA 19406.
071096 | Regulatory Services, Inc., Agent For: Or-Cal Inc., 17220 Westview Rd., Oswego, OR 97034.
071368 | Nufarm, Inc., 150 Harvester Drive Suite 200, Burr Ridge, IL 60527.
073782 | Kincaid Inc., PO Box 490, Athens, TN 37371.
075506 | Arch Treatment Technologies, Inc., 1955 Lake Park Drive, Smyrna, GA 30080.
079558 | Isagro Usa, Agent For: Isagro S.P.A., 430 Davis, Morrisville, NC 27560.
079676 | Pyxis Regulatory Consulting, Inc., Agent For: Gro-Pro, Llc, 4110 136th Street, Northwest, Gig Harbor, WA 98332.
081142 | Libertas Now, Inc., 419 Fourth Street, Annapolis, MD 21403.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked no later than March 11, 2009, or no later than October 14, 2008 for those registrations for which the registrants requested a waiver of the 180 day comment period. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: September 3, 2008.
Kathryn Bouvé,
Acting Director, Information Technology and Resources Management Division, Office of Pesticide Programs.

[FR Doc. E8-21141 Filed 9-11-08; 8:45 am]

BILLING CODE 6560-50-S